DEPARTMENT OF TRANSPORTATION

Federal Aviation Administration

14 CFR Part 71

Proposed Modification of the Las Vegas, NV, Class B Airspace Area; Public Meetings

AGENCY: Federal Aviation Administration (FAA), DOT.

ACTION: Notice of meetings.

SUMMARY: This notice announces three fact-finding informal airspace meetings to solicit information from airspace users and others, concerning a proposal to modify Class B airspace at Las Vegas, NV. The purpose of these meetings is to provide interested parties an opportunity to present views, recommendations, and comments on the proposal. All comments received during these meetings will be considered prior to any issuance of a notice of proposed rulemaking.

DATES: The informal airspace meetings will be held on Thursday, August 18, 2011; Tuesday August 23, 2011; and Thursday, August 25, 2011. All meetings will run from 6:30 p.m. until 9 p.m. Comments must be received on or before October 10, 2011.

ADDRESSES: (1) The meeting on Thursday, August 18, 2011, will be held at Centennial High School, 10200 Centennial Parkway, Las Vegas, NV 89149; (2) The meeting on Tuesday, August 23, 2011, will be held at Coronado High School, 10 1 Coronado Center Drive, Henderson, NV 89052; (3) The meeting on Thursday, August 25, 2011, will be held at Shadow Ridge High School, 5050 Brent Lane, Las Vegas, NV 89131.

Comments: Send comments on the proposal, in triplicate, to: John Warner, Manager, Operations Support Group, Western Service Center, Air Traffic Organization, Federal Aviation Administration, 1601 Lind Ave., SW., Renton, WA 98057.

FOR FURTHER INFORMATION CONTACT: John Gough, Manager, Airspace and Procedures, and Bill Ruggiero, Support Manager Las Vegas, TRACON, 699 Wright Brothers Lane, Las Vegas, NV 89119; telephone: (702) 597-5910.

SUPPLEMENTARY INFORMATION:

Meeting Procedures

(a) The meetings will be informal in nature and will be conducted by one or more representatives of the FAA Western Service Area. A representative from the FAA will present a briefing on the planned Class B airspace area modification. Each participant will be given an opportunity to deliver comments or make a presentation, although a time limit may be imposed. Only comments concerning the plan to modify the Las Vegas Class B airspace will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded. However, a summary of comments made at the meetings will be filed in the docket.

Agenda for the Meetings

—Sign-in.

—Presentation of Meeting Procedures.

—Informal Presentation of the planned Class B Airspace area modification.

—Public Presentations and Discussions.

—Closing Comments.

Issued in Washington, DC, on June 13, 2011.
Gary A. Norek,
Acting Manager, Airspace, Regulations and ATC Procedures Group.

[FR Doc. 2011-15107 Filed 6-16-11; 8:45 am]

BILLING CODE 4910-13-P